NUCLEAR REGULATORY COMMISSION

[Docket No. 50-261]

Carolina Power and Light Company, H. B. Robinson Steam Electric Plant, Unit 2; Notice of Availability of the Final Supplement 13 to the Generic Environmental Impact Statement for the License Renewal of H. B. Robinson Steam Electric Plant, Unit 2

Notice is hereby given that the U.S. Nuclear Regulatory Commission (the Commission) has published the final plant-specific supplement to the Generic Environmental Impact Statement (GEIS), NUREG-1437, regarding the renewal of operating license DPR-23 for an additional 20 years of operation at H. B. Robinson Steam Electric Plant, Unit 2. H. B. Robinson Steam Electric Plant, Unit 2 is located in Darlington County, South Carolina. Possible alternatives to the proposed action (license renewal) include no action and reasonable alternative energy sources.

It is stated in Section 9.3 of the report:

Based on (1) the analysis and findings in the GEIS (NRC, 1996; 1999); (2) the ER (Environmental Report) submitted by CP&L (CP&L 2002); (3) consultation with Federal, State, and local agencies; (4) the staff's own independent review; and (5) the staff's consideration of public comments, the recommendation of the staff is that the Commission determine that the adverse environmental impacts of license renewal for H. B. Robinson Steam Electric Plant, Unit 2 are not so great that preserving the option of license renewal for energy-planning decision-makers would be unreasonable.

The final supplement 13 to the GEIS is available electronically for public inspection in the NRC's Public Document Room (PDR), located at One White Flint North, 11555 Rockville Pike (first floor), Rockville, Maryland, or from the Publicly Available Records (PARS) component of NRC's Agencywide Documents Access and Management System (ADAMS). ADAMS is accessible from the NRC Web site at http://www.nrc.gov/reading-rm.html (the Public Electronic Reading Room). Persons who do not have access to ADAMS or who encounter problems in accessing the documents located in ADAMS, should contact the NRC's PDR Reference staff at 1-800-397-4209, 301-415-4737, or by e-mail to pdr@nrc.gov.

FOR FURTHER INFORMATION CONTACT: Mr. Richard L. Emch, Jr., License Renewal and Environmental Impacts Program, Division of Regulatory Improvement Programs, U.S. Nuclear Regulatory Commission, Washington, DC 20555-0001. Mr. Emch may be contacted at 301-415-1590 or RLE@nrc.gov.

Dated at Rockville, Maryland, this 12th day of December, 2003.
For the Nuclear Regulatory Commission.
Pao-Tsin Kuo,
Program Director, License Renewal and Environmental Impacts, Division of Regulatory Improvement Programs, Office of Nuclear Reactor Regulation.

[FR Doc. 03-31209 Filed 12-17-03; 8:45 am]

BILLING CODE 7590-01-P